DEPARTMENT OF HEALTH AND HUMAN SERVICES

Centers for Disease Control and Prevention

[30Day-22-21GA]

Agency Forms Undergoing Paperwork Reduction Act Review

In accordance with the Paperwork Reduction Act of 1995, the Centers for Disease Control and Prevention (CDC) has submitted the information collection request titled Teen and Parents Surveys of Health (TAPS) to the Office of Management and Budget (OMB) for review and approval. CDC previously published a “Proposed Data Collection Submitted for Public Comment and Recommendations” notice on July 2, 2021 to obtain comments from the public and affected agencies. CDC received no comments related to the previous notice. This notice serves to allow an additional 30 days for public and affected agency comments.

CDC will accept all comments for this proposed information collection project. The Office of Management and Budget is particularly interested in comments that:

(a) Evaluate whether the proposed collection of information is necessary for the proper performance of the functions of the agency, including whether the information will have practical utility;

(b) Evaluate the accuracy of the agencies estimate of the burden of the proposed collection of information, including the validity of the methodology and assumptions used;

(c) Enhance the quality, utility, and clarity of the information to be collected;

(d) Minimize the burden of the collection of information on those who are to respond, including, through the use of appropriate automated, electronic, mechanical, or other technological collection techniques or other forms of information technology, e.g., permitting electronic submission of responses; and

(e) Assess information collection costs.

To request additional information on the proposed project or to obtain a copy of the information collection plan and instruments, call (404) 639-7570. Comments and recommendations for the proposed information collection should be sent within 30 days of publication of this notice to www.reginfo.gov/public/do/PRAMain. Find this particular information collection by selecting “Currently under 30-day Review—Open for Public Comments” or by using the search function. Direct written comments and/or suggestions regarding the items contained in this notice to the Attention: CDC Desk Officer, Office of Management and Budget, 725 17th Street NW, Washington, DC 20503 or by fax to (202) 395-5806. Provide written comments within 30 days of notice publication.

Proposed Project

Teen and Parents Surveys of Health (TAPS)—New—National Center for HIV/AIDS, Viral Hepatitis, STD, and TB Prevention (NCHHSTP), Centers for Disease Control and Prevention (CDC).

Background and Brief Description

The Centers for Disease Control and Prevention (CDC), National Center for HIV/AIDS, Viral Hepatitis, STD, and TB Prevention (NCHHSTP), Division of Adolescent and School Health (DASH) requests approval for “Teen and Parent Surveys of Health (TAPS).” This one-time data collection will be conducted via a contract with NORC at the University of Chicago and its national online panel survey, AmeriSpeaks.

Documenting health-related risk behaviors and experiences and health outcomes of young people through routine surveillance is a critical component of DASH's prevention efforts. Another component of DASH's efforts to improve adolescent health is observational research to inform its school-based programmatic strategies. This type of research serves to inform priority settings and sub-populations for intervention, as well as specific intervention strategies. These TAPS data will allow DASH to refine existing strategies for funded school district partners to improve the quality of their programs and services to prevent HIV, other STDs, and pregnancy among adolescents, as well as improve mental health, sexual health, and other adolescent health outcomes (e.g., substance use, violence victimization).

Data will be used to inform DASH's key school-based programmatic strategies of improving family- and school-level protective factors, bolstering health education, and increasing adolescent access to quality health services. This observational research complements and extends DASH's ongoing surveillance efforts through the Youth Risk Behavioral Surveillances System (YRBSS) (OMB Control No. 0920-0493, Exp. 11/30/2023), which provides key national estimates of adolescent health risk behaviors and health outcomes, by providing a deeper dive into individual, family, and school factors that positively associate with adolescent behaviors and health outcomes. Collecting this observational data provides the opportunity to examine untested associations of protective factors, health education experiences, and health service use (immediate outcomes of DASH strategies) with mental health, sexual health, and substance use outcomes.

CDC requests OMB approval for an estimated 1,378 annualized burden hours. There are no costs to respondents other than their time.

Estimated Annualized Burden Hours
Type of respondents | Form name | Number of respondents | Number of responses per respondent | Average burden per response (in hrs)
Parents/Caregivers of 15-17 year olds | Adult/Caregiver Survey | 2,634 | 1 | 20/60
Adolescent 15-17 year olds | Adolescent Survey | 900 | 1 | 20/60
Adolescent 18-19 year olds | Adolescent Survey | 600 | 1 | 20/60

Jeffrey M. Zirger,
Lead, Information Collection Review Office, Office of Scientific Integrity, Office of Science, Centers for Disease Control and Prevention.

[FR Doc. 2021-22696 Filed 10-18-21; 8:45 am]

BILLING CODE 4163-18-P